DEPARTMENT OF DEFENSE

Department of the Army

Interim Change to the Military Freight Traffic Unified Rules Publication (MFTURP) NO. 1

AGENCY: Department of the Army, DoD.

SUMMARY: The Military Surface Deployment and Distribution Command (SDDC) is providing notice that it is releasing an interim change to the MFTURP No. 1 that will become effective January 1, 2011. The interim change updates the personnel security requirements for Dual Driver Protective Service (DDP) and Protective Security Service (PSS) in the MFTURP No.1.

ADDRESSES: Submit comments to Publication and Rules Manager, Strategic Business Directorate, Business Services, 1 Soldier Way, Building 1900W, Attn: SDDC-OPM, Scott AFB, 62225. Request for additional information may be sent by e-mail to: chad.t.privett@us.army.mil or george.alie@us.army.mil.

FOR FURTHER INFORMATION CONTACT: Mr. Chad Privett, (618) 220-6901, or Mr. George Alie, (618) 220-5870.

SUPPLEMENTARY INFORMATION: Reference: Military Freight Traffic Unified Rules Publications (MFTURP) No. 1.

Background: The MFTURP No. 1 governs the purchase of surface freight transportation in the Continental United States (CONUS) by DoD using Federal Acquisition Regulation (FAR) exempt transportation service contracts.

Miscellaneous: This publication, as well as the other SDDC publications, can be accessed via the SDDC Web site at: http://www.sddc.army.mil/Public/Global%20Cargo%20Distribution/Domestic/Publications/.

Larry L. Earick,
Chief, SDDC, G9, Business Services.

[FR Doc. 2011-7 Filed 1-5-11; 8:45 am]

BILLING CODE 3710-08-P